DEPARTMENT OF HOMELAND SECURITY

Customs and Border Protection

Notice of Availability of a Draft Programmatic Environmental Impact Statement for Northern Border Activities

AGENCY: U.S. Customs and Border Protection, DHS.

ACTION: Notice of availability; Request for comments; Notice of public meetings.

SUMMARY: U.S. Customs and Border Protection (CBP) announces that a Draft Programmatic Environmental Impact Statement (PEIS) is now available and open for public comment. The Draft PEIS analyzes the potential environmental and socioeconomic effects associated with its ongoing and potential future activities along the Northern Border between the United States and Canada. The overall area of study analyzed in the document extends approximately 4,000 miles from Maine to Washington and 100 miles south of the U.S.-Canada Border. CBP also announces that it will be holding a series of public meetings in October to obtain comments regarding the Draft PEIS.

DATES: CBP invites comments on the Draft PEIS during the 45 day comment period, which begins on September 16, 2011. To ensure consideration, comments must be received by October 31, 2011. Comments may be submitted as set forth in the ADDRESSES section of this document. CBP will hold public meetings on the Draft PEIS. The locations, dates, and times are listed in the SUPPLEMENTARY INFORMATION section of this document.

ADDRESSES: You may submit comments related to the Draft PEIS by any of the following methods. Please include your name and address and the state or region to which the comment applies, as appropriate. To avoid duplication, please use only one of the following methods for providing comments:

• Project Web site: http://www.NorthernBorderPEIS.com/public-involvement/comments.html;

• E-mail: Comments@NorthernBorderPEIS.com;

• Mail: CBP Northern Border PEIS, P.O. Box 3625, McLean, Virginia 22102; Phone voicemail box: (866) 760-1421 (comments recorded in the voicemail box will be transcribed).

You may download the Draft PEIS from the project Web site: http://www.NorthernBorderPEIS.com. It will also be made available on the Department of Homeland Security Web site (http://www.dhs.gov). Copies of the Draft PEIS may also be obtained by submitting a request through one of the methods listed below. Please include your name and mailing address in your request.

• E-mail: Comments@NorthernBorderPEIS.com and write “Draft PEIS” in the subject line;

• Mail: CBP Northern Border PEIS, (Draft PEIS Request), P.O. Box 3625, McLean, VA 22102;

• Phone: (866) 760-1421.

FOR FURTHER INFORMATION CONTACT: Jennifer Hass, CBP, Office of Administration, telephone (202) 344-1929. You may also visit the project's Web site at: http://www.NorthernBorderPEIS.com.

SUPPLEMENTARY INFORMATION:

Public Meetings and Invitation To Comment

CBP invites comments on all aspects of the Draft PEIS. Comments that will provide the most assistance to CBP will reference a specific section of the Draft PEIS, explain the reason for any recommended change, and include data, information, or authority that support such recommended change. Substantive comments received during the comment period will be addressed in, and included as an appendix to, the Final PEIS. The Final PEIS will be made available to the public through a Notice of Availability in the Federal Register.

Comments may be submitted as described in the ADDRESSES section of this document. Respondents may request to withhold names or street addresses, except for city or town, from public view or from disclosure under the Freedom of Information Act. Such a request must be stated prominently at the beginning of the comment. Such requests will be honored to the extent allowed by law. This request to withhold personal information does not apply to submissions from organizations or businesses, or from individuals identifying themselves as representatives or officials of organizations or businesses.

CBP will hold public meetings to inform the public and solicit comments about the Draft PEIS. Meetings will be held from 7 p.m. to 9 p.m. at each of the locations and dates provided below. The meeting in the Washington, DC area is for interested parties located outside of the project's areas of interest. Meetings will include displays, handouts, and a presentation by CBP, and will provide an opportunity for the public to record their comments on the Draft PEIS. Changes in meeting plans, due to inclement weather or other causes, will be announced on the project's Web site at: http://www.NorthernBorderPEIS.com, and on a telephone message at: (866) 760-1421.

Date | City, state | Location
October 3 | Duluth, MN | Holiday Inn, 200 West First Street, Duluth, MN 55802.
October 4 | Massena, NY | VFW, 101 W Hatfield St., Massena, NY 13662.
October 4 | Caribou, ME | Caribou Inn and Convention Center, 19 Main Street, Caribou, ME 04736.
October 5 | Augusta, ME | The Senator Inn & Spa, 284 Western Ave., Augusta, ME 04330.
October 5 | Bottineau, ND | Twin Oaks Resort & Convention Center, 10723 Lake Loop Road, Bottineau, ND 58318.
October 6 | St. Albans, VT | The Senator Historical Museum, 9 Church Street, St. Albans, VT 05478.
October 6 | Detroit, MI | Holiday Inn Express, 1020 Washington Boulevard, Detroit, MI 48226.
October 6 | Havre, MT | The Town House Inn, 627 1st Street West, Havre, MT 59501.
October 11 | Bellingham, WA | Hampton Inn, 3958 Bennett Drive, Bellingham, WA 98225.
October 11 | Rochester, NY | Holiday Inn—Rochester Airport, 911 Brooks Avenue, Rochester, NY 14624.
October 12 | Erie, PA | Ambassador Banquet Center, 7794 Peach Street, Erie, PA 16509.
October 13 | Naples, ID | The Great Northwest Territories Event Center, 336 County Road 8, Naples, ID 83847.
October 17 | Washington, DC | Crystal City Marriott at Regan National Airport, 1999 Jefferson Davis Highway, Arlington, VA 22201.

The public may obtain information concerning the status and progress of the PEIS, as well as view and download the document, via the project's Web site at: http://www.NorthernBorderPEIS.com.

Background

U.S. Customs and Border Protection (CBP) is charged with the mission of enforcing customs, immigration, agriculture, and numerous other laws and regulations at the Nation's borders and facilitating legitimate trade and travel through legal ports of entry. As the guardian of the United States' borders, CBP protects the roughly 4,000 miles of Northern Border between United States and Canada, from Maine to Washington. The terrain ranges from densely forested lands on the west and east coasts to open plains in the middle of the country.

CBP has completed a Draft Programmatic Environmental Impact Statement (PEIS) for its ongoing and potential future activities along the Northern Border. The Draft PEIS is now available for public review and comment. (For instructions on obtaining a copy of the PEIS or on submitting comments, please see the ADDRESSES section of this document.) An Environmental Impact Statement (EIS) is a study of the potential effects on the environment from a specific Federal action. A Programmatic EIS (PEIS) is an EIS that looks at the general types of effects of a whole broad program of actions. It often forms the foundation for a “regular” or site-specific EIS, which looks in general detail at the effects of a specific project slated for a particular place. Because this effort is programmatic in nature, the Draft PEIS does not define effects for a specific or planned action. Instead, it analyzes the overall environmental and socioeconomic effects of activities supporting the homeland security mission of CBP focused on applying alternative approaches to better secure the border.

On July 6, 2010, CBP published in the Federal Register (75 FR 38822) a notice announcing that CBP intended to prepare four PEISs to analyze the environmental effects of current and potential future CBP border security activities along the Northern Border. Each PEIS was to cover one region of the Northern Border: the New England region, the Great Lakes region, the region east of the Rocky Mountains, and the region west of the Rocky Mountains. The notice also announced and initiated the public scoping process to gather information from the public in preparation for drafting the PEISs. As indicated in the notice, the scoping period concluded on August 5, 2010. However, CBP continued to take comments past the initial scoping period. For more information on this process, please see the section of this document entitled Public Scoping Process.

Subsequently, and in part due to comments received during public scoping, CBP decided to refocus its approach and develop one PEIS covering the entire Northern Border, rather than four separate, regional PEISs. This new approach was designed to ensure that CBP could effectively analyze and convey impacts that occur across regions of the Northern Border. CBP published a notice in the Federal Register announcing this intention on November 9, 2010 (75 FR 68810). While this makes for a somewhat larger single document, it offers the advantage of less duplication and greater usefulness as a CBP planning tool.

Aided by the information gained during the public scoping process, CBP has prepared the Draft PEIS to analyze the environmental and socioeconomic effects of current and potential future CBP border security activities along the Northern Border between the United States and Canada, including an area extending approximately 100 miles south of the Northern Border. For the purposes of the PEIS, the Northern Border is defined as the area between the United States and Canada extending from the Atlantic Ocean to the Pacific Ocean encompassing all the States between Maine and Washington, inclusively. (The Alaska-Canada border is not included in this effort.) CBP is evaluating the environmental and socioeconomic impacts of routine aspects of its operations along the Northern Border and considering enhancements to its infrastructure, technologies, and application of manpower to continue to deter existing and evolving threats to the Nation's physical and economic security. Due to the diverse and natural environments along the Northern Border, the Draft PEIS analyzes four Northern Border regions, referred to above: the New England region, the Great Lakes region, the region east of the Rocky Mountains, and the region west of the Rocky Mountains. CBP plans to use the information derived from the analysis in the PEIS in management, planning, and decision-making for its mission and its environmental stewardship responsibilities. It will also be used to establish a foundation for future impact analyses.

More specifically, CBP plans to use the PEIS analysis over the next five to seven years as CBP works to improve security along the Northern Border. To protect the Northern Border against evolving terrorist and criminal threats, CBP plans to implement a diversified approach to border security over the next five to seven years that responds most effectively to those threats. This will involve some combination of facilities, security infrastructure, technologies, and operational activities, although the specific combination of elements that will be used over this period cannot be determined at this time. CBP will use this PEIS as a foundation for future environmental analyses of specific programs or locations as CBP's plans for particular Northern Border security activities develop.

Alternatives Considered

The Draft PEIS considers the environmental impacts of several alternative approaches CBP may use to protect the Northern Border against evolving threats. These alternatives would all support continued deployment of existing CBP personnel in the most effective manner while maintaining officer safety and continued use of partnerships with other Federal, state, and local law enforcement agencies in the United States and Canada. CBP needs to maintain effective control of the Northern Border via all air, land, and maritime pathways for cross-border movement.

The No Action Alternative (or “status quo”) would be to continue with the same facilities, technology, infrastructure, and approximate level of personnel currently in use, deployed, or currently planned by CBP. Normal maintenance of existing facilities is included in this alternative. This alternative would not meet CBP's goals as it would not allow CBP to improve its capability to interdict cross-border violators or to identify and resolve threats at the ports of entry in a manner that avoids adverse effects on legal trade and travel. However, it is evaluated in this Draft PEIS because it provides a baseline against which the impacts of the other reasonable alternatives can be compared.

The Facilities Development and Improvement Alternative would focus on providing new permanent facilities or improvements to existing facilities such as Border Patrol stations, ports of entry, and other facilities to allow CBP agents to operate more efficiently and respond to situations more quickly. This alternative would help meet CBP's goals because the new and improved facilities would make it more difficult for cross-border violators to cross the border. It would also divert traffic from or increase the capacity of the more heavily used ports of entry, decreasing waiting times. The applicability of this alternative would be limited, as most roads crossing the Northern Border already have a crossing facility.

The Detection, Inspection, Surveillance and Communications Technology Expansion Alternative would focus on deploying more effective detection, inspection surveillance and communication technologies in support of CBP activities. This alternative would involve utilizing upgraded systems that would enable CBP to focus efforts on identifying threat areas, improving agent and officer communication systems, and deploying personnel to resolve incidents with maximum efficiency. This alternative would help meet CBP's goals by improving CBP's situational awareness and allowing CBP to more efficiently and effectively direct its resources for interdicting cross-border violators.

The Tactical Security Infrastructure Deployment Alternative would focus on constructing additional barriers, access roads, and related facilities. The barriers would include selective fencing and vehicle barriers at selected points along the border and would deter and delay cross-border violators. The access roads and related facilities would increase the mobility of agents, and enhance their capabilities for surveillance and for responding to various international border violations. This alternative would help meet CBP's goals by discouraging cross-border violators and improving CBP's capacity to respond.

The Flexible Direction Alternative (the Preferred Alternative) would allow CBP to follow any of the above directions in order to employ the most effective response to the changing threat environment along the Northern Border. This approach would allow CBP to respond more appropriately to a constantly changing threat environment.

Public Scoping Process

CBP developed and executed a public scoping program for the PEIS to identify public concerns to be examined in the PEIS. “Scoping” of an EIS is a process of informing diverse stakeholders about an action that an agency is planning and seeking those stakeholders' feedback on the environmental concerns that the action could generate. The intent of the scoping effort is to adopt the scope of the planned environmental document to ensure that it addresses relevant concerns identified by interested members of the public as well as organizations, Native American Tribes, and other government agencies and officials.

CBP's public scoping period for the Northern Border PEIS commenced on July 6, 2010 and concluded on August 5, 2010. See 75 FR 38822. The public scoping process was initiated with the publishing of a notice of intent (NOI) notifying the public of CBP's decision to prepare the PEISs. In coordination with the publication of the NOI, display advertisements were published in various newspapers serving local communities, public service announcements were broadcasted on local radio stations, scoping letters were mailed to potentially interested stakeholders consisting of agencies, organizations, and individuals, and a project Web site was developed. Following the publication of the NOI, a series of public scoping meetings were held in July 2010.

CBP encouraged the public to submit comments concerning the scope of the PEIS during the public meetings, or via Web site, e-mail, or letter. The comments CBP received during the public scoping process were used to adapt the scope of the Draft PEIS and to ensure that it addressed relevant concerns identified by interested members of the public as well as organizations, Native American Tribes, and other government agencies and officials. CBP has compiled a list of comments received in a scoping report. This report is available on the project's Web site at: http://www.NorthernBorderPEIS.com.

NEPA

This environmental analysis is being conducted pursuant to the National Environmental Policy Act of 1969 (NEPA), 42 U.S.C. 4321 et seq., the Council on Environmental Quality Regulations for Implementing the NEPA (40 CFR parts 1500-1508), and Department of Homeland Security Directive 023-01 (renumbered from 5100.1), Environmental Planning Program of April 19, 2006. NEPA addresses concerns about environmental quality and the government's role in protecting it. The essence of NEPA is the requirement that every Federal agency examine the environmental effects of any proposed action before deciding to proceed with it or with some alternative. NEPA and the implementing regulations issued by the President's Council on Environmental Quality call for agencies to document the potential environmental effects of actions they are proposing. Generally, agencies must make those documents public, and seek public feedback on them.

In accordance with NEPA, the PEIS analyzes the effects on the environment of the Northern Border Security Program. CBP will seek public input on these studies and will use them in agency planning and decision making. Because NEPA is a uniquely broad environmental law and covers the full spectrum of the natural and human environment, the PEIS will also address environmental considerations governed by other environmental statutes such as the Clean Air Act, Clean Water Act, Endangered Species Act, and National Historic Preservation Act (NHPA).

NHPA Programmatic Agreement

CBP is developing a Programmatic Agreement (PA) for operations along the Northern Border in accordance with Section 106 of NHPA, 16 U.S.C. 470f, and its implementing regulations (36 CFR part 800). While the PA is being pursued as an independent action from the PEIS, it will be applied to future activities occurring within the Northern Border study area and therefore is relevant to the Northern Border PEIS project. The Northern Border is defined for purposes of the PA as extending from the Atlantic Ocean to the Pacific Ocean encompassing all the States between Maine to Washington, including an area extending approximately 100 miles south of the U.S.-Canada border. This area is identical to the area of study of the PEIS.

CBP is currently consulting and coordinating with the Historic Preservation Officers of the states of Idaho, Maine, Michigan, Minnesota, Montana, New Hampshire, New York, North Dakota, Pennsylvania, Wisconsin, Vermont, and Washington, and the Advisory Council on Historic Preservation (ACHP) to finalize an agreed upon framework for future Section 106 reviews for CBP actions. The PA will be signed by CBP, the ACHP, State Historic Preservation Officers, and other consulting parties. The signed PA will identify (1) activities and projects carried out by CBP that are agreed do not have the potential to affect properties either listed or eligible for listing in the National Register of Historic Places, and (2) activities that are considered undertakings that do not require consultation under Section 106. Additionally, the PA identifies actions that may have an effect but that will not require Section 106 review by CBP, State or Tribal Historic Preservation Officers, Tribes and other consulting parties, so long as all terms and conditions as described in the PA are satisfactorily met. The signed PA will be valid for five years from the date of execution, as verified with CBP filing the PA with the ACHP.

Next Steps

After the public comment period on the draft PEIS, CBP will complete a Final PEIS. The Final PEIS will be made available to the public through a Notice of Availability in the Federal Register. CBP will then select a programmatic course of action to guide CBP's activities along the Northern Border for the next five to seven years. That decision will be published in the Federal Register in a Record of Decision.

Dated: September 14, 2011.
Trent Frazier,
Acting Executive Director, Facilities Management and Engineering, Office of Administration.

[FR Doc. 2011-23993 Filed 9-15-11; 8:45 am]

BILLING CODE 9111-14-P